EQUAL EMPLOYMENT OPPORTUNITY COMMISSION

Sunshine Act Meeting

Date and Time: Wednesday, February 15, 2006, 9 a.m. eastern time.

Place: Clarence M. Mitchell, Jr. Conference Room on the Ninth Floor of the EEOC Office Building, 1801 L Street, NW., Washington, DC 20507.

Status: Part of the meeting will be open to the public and part of the meeting will be closed.

Matters To be Considered:

Open Session

1. Announcement of Notation Votes.

2. Financial Management System Support Services.

3. FY 2006 Proposed Budget Allocations for the State and Local Program, and

4. Spring 2006 Regulatory Agenda.

Closed Session

Agency Adjudication and Determination on Federal Agency Discrimination Complaint Appeals.

Note: In accordance with the Sunshine Act, the meeting will be open to public observation of the Commission's deliberations and voting. (In addition to publishing notices on EEOC Commission meetings in the Federal Register, the Commission also provides a recorded announcement a full week in advance on future (Commission sessions.) Please telephone (202) 663-7100 (voice) and (202) 663-4074 (TTY) at any time for information on these meetings.

Contact Person For More Information: Stephen Llewellyn, Acting Executive Officer on (202) 663-4070.

This Notice Issued February 6, 2006.
Stephen Llewellyn,
Acting Executive Officer, Executive Secretariat.

[FR Doc. 06-1213 Filed 2-6-06; 1:37 pm]

BILLING CODE 6570-06-M